ENVIRONMENTAL PROTECTION AGENCY

[ER-FRL-6671-3]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167. An explanation of the ratings assigned to draft environmental impact statements (EISs) was published in the Federal Register dated April 1, 2005 (70 FR 16815).

Draft EISs

EIS No. 20050298, ERP No. D-AFS-J65448-UT, West Bear Vegetation Management Project, Timber Harvesting, Prescribed Burning, Roads Construction, Township 1 North, Range 9 East, Salt Lake Principle Meridian, Evanston Ranger District, Wasatch-Cache National Forest, Summit County, UT.

Summary: EPA expressed environmental concerns about the potential for impacts to aquatic and terrestrial resources, and identified the need for additional information on monitoring and mitigation. Rating EC2.

EIS No. 20050351, ERP No. D-SFW-K65493-CA, East Contra Costa County Habitat Conservation Plan and Natural Community Conservation Plan, Implementation, Incidental Take Permit, Cities of Brentwood, Clayton, Oakley and Pittsburg, Contra Costa County, CA.

Summary: EPA expressed concerns about the uncertainties of preserve land acquisition in areas with conflicting General Plan zoning or in nonparticipating jurisdictions, and requested additional information regarding alternatives to these acquisition areas to protect covered species. Rating EC2.

EIS No. 20050399, ERP No. D-BLM-L65496-AK, Ring of Fire Resource Management Plan, Implementation, Alaska Peninsula , Kodiak Island and Aleutain Islands, AK.

Summary: EPA generally supports the proposal to designate the Neacola Mountains Area of Critical Environmental Concern (ACEC), Knik River and Haines Block Special Recreation Management Areas. However, EPA has concerns about the adequacy of some required operating procedures and lease stipulations and recommended improvements for consideration in the Final EIS. Rating EC2.

EIS No. 20050452, ERP No. D-BLM-G65099-NM, Kasha-Katuwe Tent Rocks National Monument Resource Management Plan, Implementation, Rio Puerco Field Office, Sandoval County, NM.

Summary: EPA does not object to the selection of the preferred alternative. Rating LO.

EIS No. 20050454, ERP No. D-FRC-D03005-00, Cove Point Expansion Project, Construction and Operation of a Liquefied Natural Gas (LNG) Import Terminal Expansion and Natural Gas Pipeline Facilities, U.S. Army COE Section 404 Permit, Docket Nos. CPO5-130-000, CP05-131-000 and CP05-132-00, PA, VA, WV, NY and MD.

Summary: EPA expressed environmental concerns and requested that the Final EIS include mitigation plans for both air quality and wetland impacts, as well as address environmental justice issues related to the project. Rating EC2.

Final EISs

EIS No. 20050426, ERP No. F-FTA-K40243-CA, Mid-City/Westside Transit Corridor Improvements, Wilshire Bus Rapid Transit and Exposition Transitway, Construction and Operation, Funding, Section 404 Permit, Los Angeles County, CA.

Summary: EPA does not object to the proposed project.

EIS No. 20050457, ERP No. F-IBR-K65252-CA, Lake Berryessa Visitor Services Plans, Future Use and Operation, Solano Project Lake Berryessa, Napa County, CA.

Summary: EPA's earlier concerns were addressed in the Final EIS; therefore, EPA does not object to the proposed action.

EIS No. 20050480, ERP No. F-NOA-K39092-CA, Programmatic—Montrose Settlements Restoration Plan, Restoration of Inquired Natural Resources, Channel Islands, Southern California Bight, Baja California Pacific Islands, Orange County, CA.

Summary: EPA does not object to the proposed action.

EIS No. 20050485, ERP No. F-FRC-K05059-CA, Upper North Fork Feather River Project (FERC No. 2105), Issuance of a New License for existing 3517.3 megawatt (MW) Hydroelectric Facility located in North Fork Feather River and Butt Creek, Plumas County, CA.

Summary: EPA's previous issues have been resolved; therefore, EPA does not object to the proposed action.

EIS No. 20050489, ERP No. F-IBR-J39032-00, Operation of Flaming Gorge Dam Colorado River Storage Project, Protection and Assistance in the Recovery of Populations and Designated Critical Habitat of Four Endangered Fishes: Bony Tail, Colorado Pikeminnow, Humpback Chub, and Razorback Sucker, Green River, UT and WY.

Summary: EPA supports the proposed operation and other management activities in the FEIS that are recommended to conserve, protect, and promote the recovery of the populations and designated critical habitat for endangered fish species.

EIS No. 20050492, ERP No. F-AFS-J65454-SD, Bugtown Gulch Mountain Pine Beetle and Fuels Projects, To Implement Multiple Resource Management Actions, Black Hills National Forest, Hell Canyon Ranger District, Custer County, SD.

Summary: EPA continues to have environmental concerns about impacts to water quality from roads construction, run-off and soil erosion, and cumulative impacts from other, large timber projects to vegetation and habitat.

EIS No. 20050494, ERP No. F-NOA-L39063-AK, Amendments to the Alaska Coastal Management Program, Approval, Implementation and Funding, US Army COE 404 Permit, AK.

Summary: EPA continues to have environmental concerns about the potential adverse impacts to biological, cultural and subsistence resources and subsistence users in coastal communities as a result of the proposed action.

EIS No. 20050513, ERP No. F-AFS-G65098-AR, Ozark-St. Francis National Forests Proposed Revised Land and Resource Management Plan, Implementation, Several Counties, AR.

Summary: No formal comment letter was sent to the preparing agency.

EIS No. 20050497, ERP No. F2-FHW-H40397-MO, Interstate 70 Corridor Improvements, Section of Independent Utility #7, a 40-Mile Portion of the I-70 Corridor from just West of Route 19 (milepost 174) to Lake St. Louis Boulevard (milepost 214) Montgomery, Warren, St. Charles Counties, MO.

Summary: No formal comment letter was sent to the preparing agency.

EIS No. 20050542, ERP No. FS-AFS-L36113-WA, Upper Charley Subwatershed Ecosystem Restoration Projects, Proposing to Amend the Umatilla National Forests Land and Resource Management Plan to Incorporate Management for Canada Lynx, Pomeroy Ranger District, Umatilla National Forest, Garfield County, WA.

Summary: No formal comment letter was sent to the preparing agency.

Dated: January 10, 2006.
Robert W. Hargrove,
Director, NEPA Compliance Division, Office of Federal Activities.

[FR Doc. E6-358 Filed 1-12-06; 8:45 am]

BILLING CODE 6560-50-P